DEPARTMENT OF HEALTH AND HUMAN SERVICES

Centers for Disease Control and Prevention

[60Day-05BL]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5974 or send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Worksheet for Medical Conditions among Refugees and Immigrants—New—National Center for Infectious Diseases (NCID), Centers for Disease Control and Prevention (CDC). Clearance is being requested for a “Worksheet for Medical Conditions among Refugees and Immigrants” for state and local health refugee coordinators to identify specific medical conditions of public health importance in newly arrived refugees and immigrants. CDC requests notification of specific medical conditions listed on the worksheet, including Class A and B health conditions not recognized overseas, and substantial discrepancies in the overseas and U.S. based medical evaluations.

Section 412 of the Immigration and Nationality Act (INA) (8 U.S.C. 1522(b)(4)) authorizes the Secretary of Health and Human Services (DHHS) to: (A) assure that an adequate number of trained staff are available at the location at which the refugees enter the United States to assure that all necessary medical records are available and in proper order; (B) provide for the identification of refugees who have been determined to have medical conditions affecting public health and requiring treatment; (C) assure that State or local health officials at the resettlement destination of each refugee within the United States are promptly notified of the refugee's arrival and provided with all applicable medical records; and (D) provide for such monitoring of refugees identified under subparagraph (B) as will insure that they receive appropriate and timely treatment. The Secretary, DHHS, shall develop and implement methods for monitoring and assessing the quality of medical screening and related health services provided to refugees awaiting resettlement in the United States.

On July 3, 2003, the Secretary, DHHS, delegated to the Director, CDC, the authority to re-delegate the authorities vested in the Secretary, DHHS, under section 412(b)(4) of the INA (8 U.S.C. 1522(b)(4)), as amended hereafter. The Division of Global Migration and Quarantine (DGMQ), CDC, is responsible for monitoring the performance and quality of the required overseas medical examinations of refugees and immigrants applying for permanent residence in the United States, and notifying state and local public health officials of the arrival of all refugees and immigrants who have Class A and B health conditions, (as defined in 42 CFR 34.2) to facilitate the recommended follow-up evaluation in the U.S. Currently, the Department of State uses medical examination forms DS 2053, 3024, 3025, and 3026, under OMB control number 1405-0113, to conduct the overseas medical evaluation of refugees and immigrants. This type of communication and data exchange with local partners has been critical in identifying medical conditions among refugees that require overseas interventions.

In 2004, several outbreaks of vaccine-preventable diseases among refugees in overseas refugee camps were identified and controlled because of rapid notification by U.S. state and local health departments of cases in resettled refugees. Since March 2004, DGMQ has been working with the U.S. Department of State, Bureau of Population, Refugees, and Migration and the International Organization for Migration (IOM) to resettle approximately 15,000 Laotian Hmong refugees accepted for U.S. resettlement. Approximately 8,800 refugees have arrived into the United States through early January 2005, and resettled to 27 states. DGMQ and the Division of Tuberculosis Elimination (DTBE) at CDC have recently received reports from one state of six active TB cases among Hmong refugees. Two of the three cultures confirmed TB cases were multi-drug resistant. In addition, IOM, the group performing overseas medical examinations has reported that since July, 2004 to present, 166 suspect active TB cases have been identified among U.S.-bound Hmong refugees. Completing the worksheet and furnishing the requested information is essential. Accurate information will allow important public health functions and follow-up of significant health events to be performed in preventing the spread of a disease. Respondents include state and local health departments. There is no cost to the respondents other than their time.

Annualized Burden Table:

Respondents | Number of respondents | Number of responses per respondent | Average burden per response (in hours) | Total burden (in hrs.)
State and local health agencies | 300 | 170 | 5/60 | 4,250
Total | 300 |  |  | 4,250

Dated: March 7, 2005.
Betsey Dunaway,
Acting Reports Clearance Officer, Centers for Disease Control and Prevention.

[FR Doc. 05-4937 Filed 3-14-05; 8:45 am]

BILLING CODE 4163-18-P